FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. Copies of the agreement are available through the Commission's Web site (www.fmc.gov) or by contacting the Office of Agreements at (202)-523-5793 or tradeanalysis@fmc.gov.

Agreement No.: 012390.

Title: Siem Car Carriers AS/Liberty Global Logistics LLC Space Charter Agreement.

Parties: Siem Car Carriers AS and Liberty Global Logistics LLC.

Filing Party: Ashley W. Craig Esq.; Venable LLP; 575 Seventh Street NW.; Washington, DC 20004.

Synopsis: The agreement authorizes the parties to charter space to/from each other in the trade between the U.S. on the one hand, and China, Japan, South Korea, Mexico and Germany on the other hand.

Agreement No.: 012391.

Title: Hanjin/UASC/CMA CGM/COSCON Vessel Sharing Agreement.

Parties: Hanjin Shipping Co., Ltd.; United Arab Shipping Co, S.A.G.; CMA CGM S.A.; and COSCO Container Lines Company, Limited.

Filing Party: Joshua Stein, Esq.; Cozen O'Connor; 1200 Nineteenth St, N.W; Washington, DC 20006.

Synopsis: The agreement would authorize the parties to cooperate through a combination of vessel sharing and slot charter arrangements on routes between ports in Italy, France, Spain and Malta on the one hand, and the U.S. East Coast on the other hand.

By Order of the Federal Maritime Commission.
Dated: February 12, 2016.
Rachel E. Dickon,
Assistant Secretary.

[FR Doc. 2016-03378 Filed 2-17-16; 8:45 am]

BILLING CODE 6731-AA-P